FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants

Fair Deal Shipping and Trading Inc., 1437 Pine Hills Road, Orlando, FL 32808. Officers: Ruby Wood, President (Qualifying Individual), James P. Gibson, Vice President.

Lucky Freight, Inc., 1533 Del Mar Avenue, Ste. H, San Gabriel, CA 91776. Officer: Gang (Rocky) Shen, President (Qualifying Individual).

Bon Voyage Logistics, Inc., 17595 Almahurst #216, City of Industy, CA 91748. Officers: Kuo-Long (Arno) Chang, President (Qualifying Individual), Jack Cheng, Secretary.

Apex Consolidated Corporation, 435 Main Street, 2B, Metuchen, New Jersey 08840. Officers: Cheuk Kwan, Chiu, President (Qualifying Individual), Pui Yin, Chiu, Secretary.

CL America, LLC, 1209 John Reed Court, Suite A, City of Industry, CA 91745. Officer: Joning Huang, CEO (Qualifying Individual).

Globe Shipping, Inc. dba GSI, 69-08 197th Street, 2nd Floor, Fresh Meadows, NY 11365. Officer: Chad Lu, General Manager (Qualifying Individual).

Aline Transit Inc., 43-36 Robinson Street, 4K, Flushing, NY 11355. Officers: Arthur Lai, Vice President (Qualifying Individual), Henry Zhang, President.

Ocean Freight Forwarder—Ocean Transportation Intermediary Applicant

Joe Souquette, 8531 Farralone Avenue, West Hills, CA 91304, Sole Proprietor.

Dated: July 11, 2003.
Bryant L. VanBrakle,
Secretary.

[FR Doc. 03-17998 Filed 7-15-03; 8:45 am]

BILLING CODE 6730-01-P